DEPARTMENT OF TRANSPORTATION

Office of the Secretary

Aviation Proceedings, Agreements Filed the Week Ending March 17, 2006

The following Agreements were filed with the Department of Transportation under the sections 412 and 414 of the Federal Aviation Act, as amended (49 U.S.C. 1382 and 1384) and procedures governing proceedings to enforce these provisions. Answers may be filed within 21 days after the filing of the application.

Docket Number: OST-2006-24193.

Date Filed: March 14, 2006.

Parties: Members of the International Air Transport Association.

Subject: TC12 Mid Atlantic-Middle East, Geneva & Teleconference, 16 February-17 February 2006 (Memo 0248).

Minutes: TC12 North/Mid/South Atlantic-Middle East, Geneva & Teleconference, 16-17 February 2006, (Memo 0252).

Fares: TC12 North/Mid/South Atlantic-Middle East, Geneva & Teleconference, 16-17 February 2006 (Memo 0136).

Intended effective date: April 1, 2006.

Docket Number: OST-2006-24205.

Date Filed: March 14, 2006.

Parties: Members of the International Air Transport Association.

Subject: TC12 South Atlantic-Middle East, Geneva & Teleconference, 16-17 February 2006 (Memo 0250).

Minutes: TC12 North/Mid/South Atlantic-Middle East, Geneva & Teleconference, 16-17 February 2006 (Memo 0252).

Fares: TC12 North/Mid/South Atlantic-Middle East, Geneva & Teleconference, 16-17 February 2006 (Memo 0137).

Intended effective date: 1 April 2006.

Docket Number: OST-2006-24206.

Date Filed: March 15, 2006.

Parties: Members of the International Air Transport Association.

Subject: Mail Vote 476, TC12 Passenger Tariff Coordination Conference, North Atlantic-Middle East between USA and Jordan

Intended effective date: April 1, 2006.

Docket Number: OST-2006-24211.

Date Filed: March 15, 2006.

Parties: Members of the International Air Transport Association.

Subject: Mail Vote 481—Resolution 010h, TC3 Japan, Korea-South East Asia, Special Passenger Amending Resolution between Japan and China (excluding Hong Kong SAR and Macao SAR).

Intended effective date: March 26, 2006.

Renee V. Wright,
Program Manager, Docket Operations, Federal Register Liaison.

[FR Doc. E6-4836 Filed 4-3-06; 8:45 am]

BILLING CODE 4910-62-P